DEPARTMENT OF THE INTERIOR

Bureau of Ocean Energy Management, Regulation and Enforcement

[Docket No. BOEM-2010-0063]

Commercial Leasing for Wind Power on the Outer Continental Shelf (OCS) Offshore Massachusetts—Request for Interest; Reopening of the Comment Period

AGENCY: Bureau of Ocean Energy Management, Regulation and Enforcement (BOEMRE), Interior.

ACTION: Request for Interest (RFI) in Commercial Wind Energy Leasing Offshore Massachusetts and Invitation for Comments from Interested and Affected Parties; Reopening of the Comment Period

SUMMARY: The Bureau of Ocean Energy Management, Regulation and Enforcement (BOEMRE) is reopening the comment period on the RFI in Commercial Wind Energy Leasing Offshore Massachusetts and Invitation for Comments from Interested and Affected Parties.

DATES: BOEMRE must receive your submission indicating your interest in this potential commercial leasing area no later than April 18, 2011 for your submission to be considered. BOEMRE requests comments or other submissions of information by this same date. We will consider only the indications of interest we receive by that time.

Submission Procedures: You may submit your indications of interest, comments, and information by one of two methods:

1. Electronically: http://www.regulations.gov. In the entry titled “Enter Keyword or ID,” enter BOEM-2010-0063, then click “Search”. Follow the instructions to submit public comments and view supporting and related materials available for this request for information.

2. By mail, sending your indications of interest, comments, and information to the following address: Bureau of Ocean Energy Management, Regulation and Enforcement, Office of Offshore Alternative Energy Programs, 381 Elden Street, Mail Stop 4090, Herndon, Virginia 20170.

BOEMRE will post all comments.

FOR FURTHER INFORMATION CONTACT: Jessica Bradley, Renewable Energy Program Specialist, Bureau of Ocean Energy Management, Regulation and Enforcement, Office of Offshore Alternative Energy Programs, 381 Elden Street, Mail Stop 4090, Herndon, Virginia 20170, (703) 787-1300.

SUPPLEMENTARY INFORMATION: Background: On December 29, 2010, BOEMRE published in the Federal Register the RFI in Commercial Wind Energy Leasing Offshore Massachusetts inviting submissions describing commercial leasing interest and providing comments and information pertaining to the RFI area (75 FR 82055). The RFI, requested submissions by February 28, 2011.

Because of requests received from the public and the Commonwealth of Massachusetts, we are hereby reopening the comment period until April 18, 2011. As stated in the RFI published December 29, 2010, BOEMRE will use the responses to this RFI to gauge specific interest in commercial development of OCS wind resources in the area described, as required by 43 U.S.C. 1337(p)(3). Parties wishing to obtain a commercial lease for a wind energy project should submit detailed and specific information as described in the section entitled, “Required Indication of Interest Information.” Also, with this announcement, BOEMRE invites all interested and affected parties to comment and provide information—including information about multiple uses of the area, environmental issues and data—that will be useful in the consideration of the RFI area for commercial wind energy leasing. Please refer to the RFI, published in the Federal Register on December 29, 2010, (75 FR 82055) for further information. Comments already submitted on the RFI need not be resubmitted.

Dated: March 8, 2011.
Michael R. Bromwich,
Director, Bureau of Ocean Energy Management, Regulation and Enforcement.

[FR Doc. 2011-6167 Filed 3-16-11; 8:45 am]

BILLING CODE 4310-MR-P